DEPARTMENT OF TRANSPORTATION

Federal Highway Administration

[Docket No. FHWA-2010-0048]

Agency Information Collection Activities: Notice of Request for Extension of Currently Approved Information Collection

AGENCY: Federal Highway Administration (FHWA), DOT.

ACTION: Notice of request for extension of currently approved information collection.

SUMMARY: The FHWA invites public comments about our intention to request the Office of Management and Budget's (OMB) approval for renewal of an existing information collection that is summarized below under SUPPLEMENTARY INFORMATION. We are required to publish this notice in the Federal Register by the Paperwork Reduction Act of 1995.

DATES: Please submit comments by July 19, 2010.

ADDRESSES: You may submit comments identified by DOT Docket ID 2010-0048 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m., Monday through Friday, except Federal holidays.

FOR FURTHER INFORMATION CONTACT: Henry Murdaugh, 703-235-0535, Office of Professional and Corporate Development, Federal Highway Administration, Department of Transportation, 4600 N. Fairfax Drive, Suite 800, Arlington, VA 22203, between 8 a.m. to 4:30 p.m., Monday through Friday, except Federal holidays.

SUPPLEMENTARY INFORMATION: Title: Eisenhower Transportation Fellowship Program.

OMB Control #: 2125-0617.

Background: The Eisenhower Transportation Fellowship Program is comprised of two programs, the Eisenhower Transportation Fellowship and the National Highway Institute (NHI). The Eisenhower Transportation Fellowship is currently authorized by Public Law 109-59, the Safe, Accountable, Flexible, Efficient Transportation Equity Act: A Legacy for Users of 2005 (SAFETEA-LU). The purpose of the fellowship is to advance transportation education and research, and attract qualified students to the field of transportation. The Eisenhower Transportation Fellowship allows for the collection and analysis of vital program information from student transportation education programs, also serving as a management tool to measure program performance and evaluate effectiveness in meeting Federal intent and workforce development common goals and objectives. An application form is used to collect basic information from the student to determine eligibility and qualifications for fellowship. The NHI is authorized under Section 5204 of The Safe, Accountable, Flexible, Efficient Transportation Equity Act: A Legacy for Users of 2005 (SAFETEA-LU) which calls for the development and delivery of courses for the transportation community and requires the involvement and satisfaction measurement of transportation partners. One vital component involved in reaching those goals is providing training pertaining to highway activities, making sure that professionals and members of the public have access to the best, most accurate information. Towards this goal, the NHI develops and implements applicable training programs. To manage this increasingly complex task and to make the training process more accessible and useful, NHI has automated an online training management tool—the NHI Web Portal. The training evaluation and registration forms collect basic participant data for record keeping and basic course and instructor evaluation information for customer feedback about what NHI is doing well and what we need to improve.

Respondents: Approximately 200 students submit applications for the Eisenhower Transportation Fellowship and approximately 20,000 students for the NHI.

Frequency: The Eisenhower Transportation Fellowship frequency is annually. The NHI is by learning session.

Estimated Average Burden per Response: The estimated burden to complete the application for the Eisenhower Transportation Fellowship is 3 hrs, 600 hrs annually. The estimated burden to complete each training evaluation and registration for the NHI form is 3 minutes, 1000 hrs annually.

Estimated Total Annual Burden Hours: Approximately 1,600 hours annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: May 13, 2010.
Juli Huynh,
Chief, Management Programs and Analysis Division.

[FR Doc. 2010-11918 Filed 5-18-10; 8:45 am]

BILLING CODE 4910-22-P